DEPARTMENT OF COMMERCE

U.S. Census Bureau

Proposed Information Collection; Comment Request; Participant Statistical Areas Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, submit written comments, on or before October 13, 2017.

ADDRESSES: Direct all written comments to Jennifer Jessup, Departmental Paperwork Clearance Officer, Department of Commerce, Room 6616, 14th and Constitution Avenue NW., Washington, DC 20230 (or via the internet at PRAcomments@doc.gov).

FOR FURTHER INFORMATION CONTACT: Direct requests for additional information or copies of the information collection instrument(s) and instructions to Robin A. Pennington, U.S. Census Bureau, 4600 Silver Hill Road, Washington, DC 20233 (or via the internet at robin.a.pennington@census.gov).

SUPPLEMENTARY INFORMATION:

I. Abstract

Following Census Bureau guidelines, the Participant Statistical Areas Program (PSAP) allows participants to review and suggest modifications to the boundaries for block groups, census tracts, census county divisions (CCDs), and census designated places (CDPs). Additionally, tribal government designees can review or propose changes for tribal statistical areas, which include: Tribal block groups (TBGs), tribal census tracts (TCTs), CDPs, tribal designated statistical areas (TDSAs), state designated tribal statistical areas (SDTSAs), state reservations,¹ Alaska Native village statistical areas (ANVSAs), Oklahoma tribal statistical areas (OTSA), and OTSA tribal subdivisions. Participants, usually geographers or planners, are representatives from tribal, state, county, or local governments, and planning agencies. The Census Bureau contacts participants from the 2010 PSAP and invites tribal, state, county, or local governments, and planning agencies to the 2020 PSAP. The statistical boundaries delineated in PSAP reflect localized knowledge, meet Census Bureau-established criteria and guidelines, and are intended to better meet data user needs. These standard or tribal statistical geographies are reviewed and refined once every ten years in advance of each decennial census.

¹ State reservations are not statistical areas, but they are included in PSAP for administrative reasons.

The PSAP geographies represent statistical units for the tabulation and dissemination of small area data from the decennial census, the American Community Survey (ACS), and other Census Bureau programs and surveys. While legal boundaries, such as cities and counties, allow the Census Bureau to publish data by those areas, local governments often need data for planning by smaller units, such as neighborhoods. PSAP is a unique program initiated and executed by the Census Bureau to allow local and regional governments to break larger geographic areas into smaller units so that they can receive 2020 Census and ACS data by these smaller units and better plan local services. PSAP occurs between March 2018 and October 2020 and has three primary components:

1. PSAP Internal Review.

2. PSAP Delineation.

3. PSAP Verification.

The primary participants are tribal governments, regional planning agencies, and councils of governments. Individual counties and incorporated places may participate in the program if they have the resources or better local knowledge of their geography. State agencies may also act on behalf of non-tribal, local governments that lack the resources to participate in the program.

1—PSAP Internal Review

From March 2018 through May 2018, Census Bureau staff will contact 2010 Census PSAP participants to solicit participation in the 2020 Census PSAP. During this time, Census Bureau staff will also research and identify contacts where the Census Bureau has no 2010 Census PSAP participant contact information. Census Bureau staff will encourage designated 2020 Census PSAP contacts to reach out to tribal, state, county and local contacts, as well as planning organizations to ensure additional stakeholders have the opportunity to be involved in the 2020 Census PSAP.

In July 2018, all tribal, state, county, or local governments, and planning agencies receive an official invitation package by mail. The participant receives a Contact Update Form that they fill out and return to the Census Bureau. The Census Bureau then sends reminder packages to governments that do not respond in the time period mentioned on the Contact Update Form. Census Bureau staff perform an internal review of PSAP entities prior to the distribution of materials to the partners. This internal review ensures each of the statistical areas meets the criteria as defined. Partners will have an option to start with statistical areas from 2010 or the Census Bureau proposed areas for 2020.

2—Program Delineation

In December 2018, the Census Bureau notifies program participants of the start of the delineation phase. The Census Bureau conducts delineation of the 2020 PSAP boundaries using the web-based Geographic Update Partnership Software (GUPS), a customized geographic information system (GIS) based on an open-source platform. Participants can either download the materials and software online from the Census Bureau's Web site or have them shipped on DVDs. Tribal participants have the additional option to use Census Bureau-provided paper maps for the delineation. Participants have a maximum of 120 days from the date of receipt of materials to complete and submit statistical geography updates to the Census Bureau. The delineation phase occurs between December 2018 and July 2019. Then, in July 2019, the Census Bureau sends follow-up letters to inform participants when the verification phase will start.

3—Program Verification

The verification phase allows participants to review the proposed edits from Census Bureau geographers. The Census Bureau sends a prepaid postcard to participants asking them to verify, accept, or reject the final version of the proposed plan, which is available online or by paper maps for tribal participants. Participants have 90 calendar days to review updates. Census Bureau staff contacts non-respondents through a follow-up mail-out and follow-up telephone calls. Once the Census Bureau receives the postcard with the participants' approval or acceptance of the final verification plan, the Census Bureau finalizes the 2020 statistical boundaries. This phase occurs between December 2019 and April 2020.

II. Method of Collection

The Census Bureau offers two methods of collection for the 2020 Census PSAP: GUPS submission (electronic) and paper map submission. The Census Bureau uses several formats to collect information and updates for statistical boundaries during the internal review, delineation, and verification phases. The Census Bureau collects updated contact information from participants who choose to participate in the program online, by email, and by telephone. The Census Bureau-provided software, GUPS, is the only method of response for state and local governments. Some tribal participants only have the option to use the paper map submission (TDSAs, ANVSAs, STDSAs, OTSAs, and OTSA tribal subdivisions).

GUPS Submission

The Census Bureau developed GUPS to provide (1) a free digital update option to those participants lacking an existing GIS and (2) standardized tools and functions enabling participants to navigate quickly and accurately through the update process. In addition, the standardized GUPS submissions enable Census Bureau staff to review, process, and incorporate submissions quickly and accurately into its database. Participants can download GUPS materials via the Web site or request DVDs of the materials via mail.

Participants use GUPS to review their updated standard or tribal statistical geographies already delineated by the Census Bureau. The Census Bureau designs two types of packages: One for GUPS participants who are delineating or reviewing standard statistical geographies, and one for tribal statistical geography review.

A. The 2020 Census PSAP package for standard statistical geographies contains:

(1) Cover letter from the Director of the Census Bureau.

(2) 2020 Census Participant Statistical Areas Program (PSAP) Information Guide.

(3) 2020 Census Participant Statistical Areas Program (PSAP) Geographic Update Partnership Software (GUPS) Respondent Guide.

(4) Quick reference guides for county and local governments. A one-page document providing criteria for each statistical geography eligible for updates as part of PSAP:

(a) Overview.

(b) Block groups.

(c) Census tracts.

(d) Census county divisions (CCDs).

(e) Census designated places (CDPs).

(5) GUPS Quick Start Online Download.

(6) GUPS Quick Start DVD Download.

(7) DVD for GUPS and DVD for Spatial Data.

(8) Postage-paid envelope to submit boundary changes.

(9) Delineation and verification prepaid postage postcards.

B. The typical PSAP package for tribal statistical geographies contains:

(1) Cover letter from the Director of the Census Bureau.

(2) 2020 Census Participant Statistical Areas Program (PSAP) Tribal Information Guide.

(3) 2020 Census Participant Statistical Areas Program (PSAP) Geographic Update Partnership Software (GUPS) Tribal Respondent Guide.

(4) Quick reference guides for tribal governments. A one-page document providing criteria for each statistical geography eligible for updates as part of PSAP:

(a) Overview.

(b) Census designated places (CDPs).

(c) Census county divisions (CCDs).

(d) Tribal block groups (TBGs).

(e) Tribal census tracts (TCTs).

(f) Tribal designated statistical areas (TDSAs).

(g) State designated tribal statistical areas (SDTSAs).

(h) Alaska Native village statistical areas (ANVSAs).

(i) Oklahoma tribal statistical areas (OTSAs).

(j) OTSA tribal subdivisions.

(5) GUPS Quick Start Online Download.

(6) GUPS Quick Start DVD Download.

(7) DVD for GUPS and DVD for Spatial Data.

(8) Postage-paid envelope to submit boundary changes.

(9) Delineation and verification prepaid postage postcards.

Paper Map Submission Only

Submission using paper maps is the only option offered to tribal governments and state tribal liaisons whose spatial data are not available in GUPS. The participant receives a large paper map and draws the boundary updates on the maps using pencils provided in the package. The participant uses the postage-paid envelope to submit the annotated map to the Census Bureau and then Census Bureau digitizes the map. The typical PSAP paper map submission package contains:

(1) Cover letter from the Director of the Census Bureau.

(2) 2020 Census Participant Statistical Areas Program (PSAP) Tribal Paper Respondent Guide.

(3) Quick reference guides for tribal governments. A one-page document providing criteria for each statistical geography eligible for updates as part of PSAP:

(a) Overview.

(b) Census designated places (CDPs).

(c) Census county divisions (CCDs).

(d) Tribal block groups (TBGs).

(e) Tribal census tracts (TCTs).

(f) Tribal designated statistical areas (TDSAs).

(g) State designated tribal statistical areas (SDTSAs).

(h) Alaska Natives village statistical areas (ANVSAs).

(i) Oklahoma tribal statistical areas (OTSAs).

(j) OTSA tribal subdivisions.

(4) Set of maps of their statistical geographic entities.

(5) Supplies for updating paper maps.

(6) Postage-paid envelope to submit boundary changes.

(7) Delineation and verification prepaid postage postcards.

III. Data

OMB Control Number

Form Number: 20PSAP-F-500—State Recognized Tribes Update Form. 20PSAP-F-510—Contact Update Form. 20PSAP-F-511—Product Preference Form. 20PSAP-F-520—State Tribal Liaison Contact Update Form. 20PSAP-F-530—Federally Recognized Tribe Contact Update Form. 20PSAP-F-540—Federally Recognized Tribe Product Preference Form.

Type of Review: Regular submission.

Affected Public: All Federally or state recognized Indian tribes and Alaska Natives in the United States, states, counties, local governments, and planning agencies.

Estimated Number of Respondents: 3,801.

Estimated Time per Response: Between 7 and 606 hours, estimated average 40 hours.

Estimated Total Burden Hours: 152,040.

Estimated Total Annual Cost to Public: $4,523,190.

Respondent's Obligation: Voluntary.

Legal Authority: Title 13 U.S.C. Section 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Summarization of comments submitted in response to this notice will be included in the request for OMB approval of this information collection. Comments will also become a matter of public record.

Sheleen Dumas,
PRA Department Lead, Office of the Chief Information Officer.

[FR Doc. 2017-17033 Filed 8-11-17; 8:45 am]

BILLING CODE 3510-07-P